DEPARTMENT OF THE INTERIOR

National Park Service

Notice of Intent To Conduct a Special Resource Study, Environmental Impact Statement, for the Great Falls Historic District, Paterson, New Jersey, and To Hold a Public Scoping Meeting

AGENCY: National Park Service, Department of the Interior.

ACTION: Notice of Intent to prepare an Environmental Impact Statement for the Special Resource Study for the Great Falls Historic District in Paterson, New Jersey and to hold a public scoping meeting.

SUMMARY: Under the provisions of the National Environmental Policy Act of 1969, the National Park Service is preparing an Environmental Impact Statement (EIS) for the Special Resource Study (SRS) for the Great Falls Historic District in Paterson, New Jersey. This SRS was authorized in Pub. L. 107-59, including its mandate for conformance with Sec. 8(c) of Pub. L. 91-383. The purpose of an SRS is to determine the degree and kind of federal actions that may be desirable for the management and protection of an area considered to have potential for addition to the National Park System. This is an SRS of the existing Great Falls Historic District, which preserves the history of the beginnings of manufacturing and labor in the United States. All of the elements of the site are located within the City of Paterson, County of Passaic in New Jersey, adjacent to the Passaic River. The study area will include the Great Falls/SUM National Historic Landmark District in the City of Paterson. Additional sites or locations in the City of Paterson area will be considered as may be necessary during the study process.

The place and time of a public scoping meeting in the City of Paterson will be announced by the National Park Service (NPS) and noticed in local newspapers serving the area. Notice of the meeting will also be posted on the project Web site: http://www.nps.gov/nero/greatfalls. The NPS does not presently own land or have a direct management role relating to any resources in the City of Paterson. Instead, conservation, interpretation and other activities are managed chiefly by the City of Paterson, but may include partnerships among federal, state, and local governments and private nonprofit organizations.

The SRS/EIS will address a range of alternatives including any potential roles for the NPS in preservation and interpretation of the resources of the study area. Alternatives to be considered include: no action, the potential for congressional designation of all or part of the study area as a unit of the National Park system, and any other appropriate alternative that may arise during the study process.

In summary, the SRS will present findings on five topics:

• National significance of resources;

• Determination of the suitability of the sites for inclusion within the National Park System in comparison to other protected sites with similar resources or themes;

• Determination of feasibility for the NPS to own, manage or participate in conservation and interpretation in the study area;

• Determination of the need for direct NPS management of the sites,

• Identification of alternatives including, but not limited to, a no action alternative.

The EIS will assess the impacts of the alternatives presented in the SRS. The public scoping meeting will include a discussion of the SRS and the EIS process including ways that the public can be involved in providing and receiving information, and reviewing and commenting upon the draft study and associated draft EIS. The purpose of the meeting is to solicit public input prior to formally undertaking the study.

Everyone interested in this study and the future protection and management of this area is encouraged to attend the public scoping meeting or to contact Patricia Iolavera, National Park Service Community Planner/Project Leader, by letter, e-mail or telephone for further information. A summary of the meeting comments will be posted on the project Web site and distributed in hard copy to anyone requesting it.

FOR FURTHER INFORMATION CONTACT: Patricia Iolavera, AICP: Community Planner/Project Leader, National Park Service, Northeast Region, 200 Chestnut Street, 3rd Floor, Philadelphia, PA 19106-2878, e-mail address: Patricia_Iolavera@nps.gov, Telephone: 215-597-2284.

If you correspond using the Internet, please include your name and home address in your e-mail message. Our practice is to make comments, including names and home addresses of respondents, available for public review. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: August 11, 2003.
Pat Phelan,
Associate Regional Director, Northeast Region, National Park Service.

[FR Doc. 03-23347 Filed 9-12-03; 8:45 am]

BILLING CODE 4310-25-P